DEPARTMENT OF THE INTERIOR

Fish and Wildlife Service

50 CFR Part 17

RIN 1018-AI11

Endangered and Threatened Wildlife and Plants; Listing the Beluga Sturgeon (Huso huso) as Endangered

AGENCY: Fish and Wildlife Service, Interior.

ACTION: Proposed rule; notice of public hearing and extension of comment period.

SUMMARY: The Fish and Wildlife Service (Service) gives notice that a public hearing will be held on the proposal to list the beluga sturgeon (Huso huso) under the Endangered Species Act of 1973. The proposal was published on July 31, 2002 (67 FR 49657), in response to a petition received from the Natural Resources Defense Council, the Wildlife Conservation Society, and SeaWeb. The hearing will allow all interested parties to submit additional comments regarding the proposal to list beluga sturgeon under the Endangered Species Act.

DATES: The comment period on the proposal is extended through December 28, 2002. The public hearing will be held from 1 to 4 p.m. on Thursday, December 5, 2002, in Arlington, Virginia.

ADDRESSES: The public hearing will be held in the first floor conference room of the Marymount University, Ballston Campus, 1000 North Glebe Road, Arlington, Virginia, on December 5, 2002. Written comments and materials should be sent to the Chief, Division of Scientific Authority, U.S. Fish and Wildlife Service, Room 750, 4401 N. Fairfax Drive, Arlington, Virginia 22203, or by fax, 703-358-2276, or by e-mail, ScientificAuthority@fws.gov. Comments and materials received will be available for public inspection, by appointment, from 8 a.m. to 4 p.m. at the above address.

FOR FURTHER INFORMATION CONTACT: Marie T. Maltese at the above address (telephone 703/358-1708).

SUPPLEMENTARY INFORMATION:

Background

Section 4 (b)(5)(E) of the Endangered Species Act (Act) requires that a public hearing be held on the proposed regulation if any person files a request for such a hearing within 45 days after the date of publication of general notice in the Federal Register. Public hearing requests were received during the allotted time period from Mark Berrigan, Chairman, Sturgeon Production Working Group, Florida Department of Agriculture and Consumer Services; Robert Ctvrtlik, Ciram Corporation; Mats Engstrom, President, Tsar Nicoulai Caviar, Inc.; and R. Sherman Wilhelm, Director, Division of Aquaculture, Florida Department of Agriculture and Consumer Services. Anyone expecting to make an oral presentation at these hearings is encouraged to provide a written copy of their statement to the hearing officer prior to the start of the hearing. In the event there is a large attendance, the time allotted for oral statements may have to be limited. Oral and written statements receive equal consideration. There are no limits to the length of written comments presented at this hearing or mailed to the Service. In order to accommodate the presently scheduled public hearing, the Service extends the public comment period. Written comments may now be submitted through December 28, 2002, to the office in the ADDRESSES section.

Author

The primary author of this notice is Marie T. Maltese (See ADDRESSES section).

Authority: The authority for this action is the Endangered Species Act (16 U.S.C. 1531-1544).

Dated: October 31, 2002.
Steve Williams,
Director, Fish and Wildlife Service.

[FR Doc. 02-28334 Filed 11-5-02; 8:45 am]

BILLING CODE 4310-55-P